DEPARTMENT OF HOMELAND SECURITY

Transportation Security Administration

49 CFR Part 1540

Prohibited Items

AGENCY: Transportation Security Administration, DHS.

ACTION: Interpretive rule.

SUMMARY: The Transportation Security Administration (TSA) is amending its interpretive rule that provides guidance to the public on the types of items that TSA considers to be weapons, explosives, and incendiaries, which are prohibited in airport sterile areas, in the cabins of aircraft, or in passengers' checked baggage. This document adds a limited type of unpressurized gas cylinders for air guns used in competitive shooting to those items that may be placed in checked baggage but continue to be prohibited in sterile areas and aircraft cabins. This document also provides clarification on prohibited sharp objects and certain self-defense items.

DATES: This rule is effective October 26, 2023.

FOR FURTHER INFORMATION CONTACT: Justin Keear, Requirements Development Branch, Requirements and Capabilities Analysis, Transportation Security Administration, 6595 Springfield Center Drive, Springfield, VA 20598-6016; Telephone (571) 422-7202; email ORCAPIL@tsa.dhs.gov.

SUPPLEMENTARY INFORMATION:

Availability of Rulemaking Document

You can find an electronic copy of this rulemaking using the internet by accessing the Government Publishing Office's web page at https://www.govinfo.gov/app/collection/FR/ to view the daily published Federal Register edition or accessing the Office of the Federal Register's web page at https://www.federalregister.gov. Copies are also available by contacting the individual identified in the FOR FURTHER INFORMATION CONTACT section.

Statutory and Regulatory Background

TSA is responsible for security in all modes of transportation, including aviation.¹ In addition, TSA is required to screen all passengers and property, including carry-on and checked baggage, and other articles.² Under TSA's regulation on acceptance and screening of individuals and accessible property, 49 CFR 1540.111(a), an individual (other than law enforcement personnel or other authorized individuals) may not have a weapon, explosive, or incendiary, on or about the individual's person or accessible property—

¹ See 49 U.S.C. 114(d).

² See 49 U.S.C. 44901(a).

(1) When performance has begun of the inspection of the individual's person or accessible property before entering a sterile area, or before boarding an aircraft for which screening is conducted under this subchapter;

(2) When the individual is entering or in a sterile area; or

(3) When the individual is attempting to board or onboard an aircraft for which screening is conducted under 49 CFR 1544.201, 1546.201, or 1562.23.

Under 49 CFR 1540.111(c), a passenger may not transport the following items in checked baggage: any loaded firearms; any unloaded firearms unless it meets specific packaging requirements and is properly declared; or any unauthorized explosive or incendiary.

Since February 2003, TSA has published a series of interpretive rules that provide guidance to the public on the types of property TSA considers to be weapons, explosives, and incendiaries prohibited on an individual's person, accessible property, or in checked baggage, as well as items that may be permitted, if they clear TSA's required screening.³

³ See 68 FR 7444 (Feb. 14, 2003) (initial interpretive rule); 68 FR 9902 (Mar. 3, 2003) (technical corrections); 70 FR 9877 (Mar. 1, 2005) (prohibiting lighters); 70 FR 51679 (Aug. 31, 2005) (permitting certain small scissors that persons with ostomies need); 70 FR 72930 (Dec. 8, 2005) (allowing small scissors and small tools); and 72 FR 40262 (July 24, 2007) (new enforcement policy regarding lighters, allowing one lighter).

As noted in the first interpretive rule, neither the prohibited items list nor the permitted items list in this regulatory interpretation contains all possible items.⁴ As a result, items not specifically included on the prohibited items list may be prohibited in a sterile area and the cabin of an aircraft. Screeners have discretion to prohibit an individual from carrying an item into a sterile area or onboard an aircraft if the screener determines that the item poses a potential threat, regardless of whether the item is on the prohibited items list. Moreover, if future information or events demonstrate the need to prohibit items that TSA has previously considered permitted, TSA may prohibit individuals from bringing these items into the sterile area or onboard the aircraft without first publishing a change to this interpretive rule. This flexibility is consistent with Congress' direction that screeners be proficient in recognizing new threats and weapons ⁵ as well as TSA's mission and authorities to protect transportation security from evolving threats. To provide as much notice to the public as possible, TSA has created an interactive capability for the public on https://www.tsa.gov that provides up-to-date information on prohibited items, including hazardous items prohibited by the Federal Aviation Administration (FAA), and those that are permitted if properly packaged and screened.⁶

⁴ 68 FR at 7445.

⁵ 49 U.S.C. 44935(h)(1).

⁶ https://www.tsa.gov/travel/security-screening/whatcanibring/all.

Statutory Requirements for Revisions to the Prohibited Items List

Section 1962 of the TSA Modernization Act requires TSA to periodically review and amend, as necessary, the prohibited items list.⁷ Before determining whether to include or remove an item from the prohibited items list, TSA is required to: (1) research and evaluate the impact, if any, the amendment would have on security risks and screening operations, including effectiveness and efficiency; (2) research and evaluate whether the amendment is consistent with international standards and guidance, including those of the International Civil Aviation Organization; and (3) consult with appropriate aviation security stakeholders, including the Aviation Security Advisory Committee (ASAC).⁸ With the exception of plastic or round-bladed butter knives, TSA is prohibited from amending the interpretive rule to authorize any knife to be permitted in an airport sterile area or in the aircraft cabin.⁹

⁷ Division K, FAA Reauthorization Act of 2018, Public Law 115-254 (132 Stat. 3186; Oct. 5, 2018) as codified at 49 U.S.C. 44901 note [hereinafter, TSA Modernization Act]. This provision is consistent with recommendations from a 2015 review by the Government Accountability Office (GAO) of TSA's approach to prohibiting items aboard passenger aircraft. GAO published a report recommending that TSA review and revise the prohibited items list regularly, and engage with internal and external stakeholders, including the ASAC, in the course of these reviews. See GAO-15-261 Report, Aviation Security TSA Should Take Additional Action to Obtain Stakeholder Input when Modifying the Prohibited Items List, GAO-15-261 (Feb. 2015).

⁸ TSA Modernization Act, at § 1962(b).

⁹ Id. at § 1962(c).

TSA established a process to ensure compliance with these statutory requirements. TSA Management Directive 4000.2 (August 25, 2021) establishes TSA's Office of Requirements and Capabilities Analysis as the lead office for revisions to the prohibited items list. All changes to the prohibited items list require review and approval by TSA's Executive Risk Steering Committee, a risk assessment (to include determining potential impact on operations), and a robust process for engagement with internal and external stakeholders. When determining to make these revisions to the prohibited items list, TSA considered, among other factors, known security risks based on intelligence, incidents, and feedback from stakeholders. From information provided by the U.S. intelligence and law enforcement communities, TSA knows that terrorists remain focused on attacking commercial aviation. The use of simple weapons in the aircraft cabin to overpower the flight crew is a known threat tactic.

Impact on screening operations. TSA also considered the effects of these changes on screening operations, including effectiveness and efficiency. For example, the clarifications to the definitions of sharp objects being made through this revision to the prohibited items list are intended to reduce confusion and training burdens across the screening workforce, thereby enabling TSA screeners to focus more effectively and efficiently on searching for prohibited items.

Alignment with International Standards. TSA reviewed all corresponding passenger screening security standards from the International Civil Aviation Organization and determined that all clarifications to the list are consistent with those standards.

Engagement with stakeholders. TSA solicited input and feedback from the FAA, the ASAC, and several industry trade organizations with an interest in aviation security on the changes relating to gas cylinders for air guns. No external stakeholders provided substantive feedback. As discussed below, the remaining changes relating to definitions of sharp objects and club-like items are clarifications to the prohibited items list consistent with current screening policies; they do not represent changes to current limitations or requirements, and they neither add nor remove items from the list. Accordingly, TSA did not engage extensively with ASAC or other interested stakeholders when preparing those revisions.

Clarifications to the Prohibited Items List

Sharp objects: Blade holding devices and table knives. TSA is making clarifications to the prohibited items list for categories of sharp objects prohibited under Section I.B. of the interpretive rule. As shown in Table 1, these changes include a minor revision to the types of permitted knives, intended to clarify the features of some common table knives that may be carried in the passenger cabin. The current text of the prohibited items list prompts recurring questions by TSA screeners regarding the identity of the knife as a butter knife, the existence of a point, the features of the blade edge, the presence of serrations, and how to decide if a knife with a particular combination of those features is permitted or not. Consistent with the requirements of the TSA Modernization Act,¹⁰ the revised text is intended to clarify that only knives with no sharp edges, no points, and no serrations are permitted. Commonly permissible examples would include plastic cutlery and butter knives (the butter knife exception is limited to knives that are round-bladed, blunt-edged, without serration, and no longer than a common table knife). There is no change to the allowance for plastic cutlery, which continues to be permitted. The new definition will simplify training and operational requirements and will allow TSA's screening workforce to focus more appropriately on screening for more dangerous items.

¹⁰ Id.

The second change provides clarification regarding box cutters and utility knives. Recognizing the potential for empty box cutter and utility knife housings to be used to enhance the lethality of a hidden blade, TSA determined it is necessary to provide clarification that both the blades and housings are prohibited.

Table 1—Changes to the Definition of Sharp Objects in the Prohibited Items List Section I.B.
Current wording | New wording
(5) Knives of any length, except rounded-blade butter and plastic cutlery | (5) Knives of any length, except plastic cutlery and butter knives (the butter knife exception is limited to knives that are round-bladed, blunt-edged, without serration, and no longer than a common table knife).
(7) Razor-type blades, such as box cutters, utility knives, and razor blades not in a cartridge, but excluding safety razors | (7) Razor-type blades, such as blades for box cutters, utility knives, and non-disposable safety razors. This prohibition includes box cutter and utility knife housings, with or without the razor blade, but excludes disposable safety razors and safety razor blade cartridges.

Club-like items: Cat-Eyes. Cat-eyes are a type of brass knuckle made in the stylized representation of a cat's face, often made of metal, and commonly marketed as keychains. The eyes of the cat are finger holes and the ears of the cat are sharp points that extend beyond the fingers when the weapon is held in a closed fist, as with other brass knuckles. TSA screeners have requested clarification on whether these items are prohibited, seeking clarification of whether the items should be treated as a club-like item or sharp object. Clarifying that TSA considers cat-eyes to be a type of brass knuckle will simplify training and operational requirements and provide clarity to the public.

Gas cylinders for air guns. TSA currently prohibits all compressed air guns and compressed gas cylinders on person or in accessible property.¹¹ TSA permits unloaded compressed air guns to be transported in checked baggage, but the agency has not included a clear exception for the compressed gas cylinders used in these guns through the prohibited items list. In response to a request from the competitive shooting industry, TSA examined available intelligence information and the characteristics of unpressurized competitive shooting cylinders for air guns. TSA conducted a risk analysis that compared the gas cylinders to other similar items that are currently allowed in checked baggage and found that the carriage of a maximum of four of these unpressurized cylinders in checked baggage would not introduce an unacceptable level of risk to passengers or aviation security, even if carried along with their associated air rifle or air pistol. TSA has, in the past, made limited exceptions consistent with this change, such as for Olympic competitors and the Wounded Warrior program, without incident.

¹¹ See Sections I.A(2) (compressed air guns) and I.F(2) (compressed gas cylinders).

Through this revision to the interpretive rule, TSA is permitting travelers to transport up to four unpressurized compressed gas cylinders of limited size and capacity intended for air guns. Each passenger may carry no more than four such cylinders, and none of the gas cylinders may exceed 24 inches in length, 3 inches in diameter, or 0.1 cubic feet in total rated volume.

All checked baggage will continue to be screened prior to being loaded on an aircraft. This screening will verify that the items within meet the criteria for transport described in this notice and are not concealing other prohibited items, explosives, or improvised explosive devices or components. The final decision rests with TSA on whether to allow items to be transported, and TSA reserves the ability to prohibit any items that it deems to be a threat to transportation security. As part of risk-based security, TSA may prohibit items discovered during certain types of screening that would otherwise be permitted.

Future Changes to the Prohibited Items List

Consistent with the requirements in the TSA Modernization Act, TSA intends to review the prohibited items list on a periodic basis and will revise the list as operational circumstances and the threat landscape may require. TSA will engage with appropriate internal and external stakeholders in the course of the periodic review, as required by the TSA Modernization Act. TSA will continue to announce future changes in the Federal Register and will continue to add any changes to TSA's “What Can I Bring?” list (or equivalent) on https://www.tsa.gov.

Regulatory Impact Analyses

Changes to Federal regulations must undergo several economic analyses. First, Executive Order (E.O.) 12866 of September 30, 1993 (Regulatory Planning and Review), as supplemented by E.O. 13563 of January 18, 2011 (Improving Regulation and Regulatory Review) and E.O. 14094 of April 6, 2023 (Modernizing Regulatory Review) directs each Federal agency to propose or adopt a regulation only upon a reasoned determination that the benefits of the intended regulation justify its costs. Second, the Regulatory Flexibility Act of 1980 (RFA) ¹² requires agencies to consider the economic impact of regulatory changes on small entities. Third, the Trade Agreement Act of 1979 ¹³ prohibits agencies from setting standards that create unnecessary obstacles to the foreign commerce of the United States. Fourth, the Unfunded Mandates Reform Act of 1995 ¹⁴ (UMRA) requires agencies to prepare a written assessment of the costs, benefits, and other effects of proposed or final rulemakings that include a Federal mandate likely to result in the expenditure by State, Local, or Tribal governments, in the aggregate, or by the private sector, of $100 million or more annually (adjusted for inflation).

¹² Public Law 96-354 (94 Stat. 1164; Sept. 19, 1980) (codified at 5 U.S.C. 601 et seq., as amended by the Small Business Regulatory Enforcement Fairness Act of 1996).

¹³ Public Law 96-39 (93 Stat. 144; July 26, 1979) (codified at 19 U.S.C. 2531-2533).

¹⁴ Public Law 104-4 (109 Stat. 66; Mar. 22, 1995) (codified at 2 U.S.C. 1181-1538).

Executive Orders 12866 and 13563 Assessment

Under the requirements of E.O. 12866, as amended by E.O. 14094, and E.O. 13563, agencies must assess the costs and benefits of available regulatory alternatives and, if regulation is necessary, select regulatory approaches that maximize net benefits (including potential economic, environmental, public health and safety effects, distributive impacts, and equity). These requirements were supplemented by E.O. 13563, which emphasizes the importance of quantifying both costs and benefits, of reducing costs, of harmonizing rules, and of promoting flexibility.

The Office of Management and Budget (OMB) has not designated this interpretive rule a significant regulatory action under section 3(f) of Executive Order 12866, as amended by Executive Order 14094. Accordingly, OMB has not reviewed this regulatory action.

In conducting these analyses, TSA made the following determinations:

1. This interpretive rule explains to the public, airport personnel, screeners, and airlines, how TSA interprets certain terms used in an existing rule, 49 CFR 1540.111.

2. This interpretive rule will not constitute a barrier to international trade.

3. This interpretive rule does not impose an unfunded mandate on State, Local, or Tribal governments, or on the private sector.

This interpretive rule provides an interpretation of an existing regulation, 49 CFR 1540.111, to provide clarity regarding existing prohibitions and to narrow the scope of the prohibition by permitting certain compressed gas cylinders in checked baggage. As was the case with previous interpretive rules narrowing the scope of the prohibition,¹⁵ TSA does not anticipate that the public or industry will bear any compliance costs associated with this interpretive rule.

¹⁵ See, e.g., 70 FR 51679 (Aug. 31, 2005) and 70 FR 72930 (Dec. 8, 2005).

The decision to allow a limited size and number of compressed gas cylinders in checked baggage is made as part of TSA's overall risk-based security approach and is consistent with the requirement to review the prohibited items list in section 1962 of the TSA Modernization Act of 2018.¹⁶

¹⁶ See supra note 6.

Regulatory Flexibility Determination

The RFA requires that agencies consider the impacts of their rules on small entities. For purposes of the RFA, small entities include small businesses, not-for-profit organizations, and small governmental jurisdictions. Individuals and States are not included in the definition of a small entity.

The RFA does not apply to this interpretive rule and TSA is not preparing an analysis under 5 U.S.C. 553 as TSA is not required to publish a notice of proposed rulemaking.

International Trade Impact Assessment

The Trade Agreement Act of 1979 prohibits Federal agencies from establishing any standards or engaging in related activities that create unnecessary obstacles to the foreign commerce of the United States. The Trade Agreement Act does not consider legitimate domestic objectives, such as essential security, as unnecessary obstacles. The statute also requires that international standards be considered and, where appropriate, that they be the basis for U.S. standards. TSA has assessed the potential effect of this interpretative rule and has determined this interpretive rule would not have an adverse impact on international trade.

Unfunded Mandates Assessment

Title II of UMRA, establishes requirements for Federal agencies to assess the effects of their regulatory actions on State, Local, and Tribal governments and the private sector. Title II of UMRA requires each Federal agency to prepare a written statement assessing the effects of any Federal mandate in a proposed or final agency rule that may result in a $100 million or more expenditure (adjusted annually for inflation) in any one year by State, Local, and Tribal governments, in the aggregate, or by the private sector; such a mandate is deemed to be a “significant regulatory action.”

This interpretive rule does not contain such a mandate. The requirements of Title II of UMRA, therefore, do not apply and TSA has not prepared a statement.

Executive Order 13132, Federalism

A rule has implications for federalism under E.O. 13132 of August 10, 1999 (Federalism), if it has a substantial direct effect on the States, on the relationship between the national government and the States, or on the distribution of power and responsibilities among the various levels of government. TSA has analyzed this proposed rule under E.O. 13132 and determined that it does not have implications for federalism.

Environmental Analysis

TSA has reviewed this interpretive rule for purposes of the National Environmental Policy Act of 1969 (NEPA) ¹⁷ and has determined that this action will not have a significant effect on the human environment. This action is covered by categorical exclusion number A3(b) in DHS Management Directive 023-01 (formerly Management Directive 5100.1), Environmental Planning Program, which guides TSA compliance with NEPA.

¹⁷ As codified at 42 U.S.C. 4321-4347.

Energy Impact

TSA assessed the energy impact of this action in accordance with the Energy Policy and Conservation Act (EPCA),¹⁸ and determined that this interpretive rule is not a major regulatory action under the provisions of the EPCA.

¹⁸ As codified at 42 U.S.C. 6362.

Amendments to Interpretation

TSA is making the following changes to the prohibited items list:

1. Currently, section I.B(5) reads: “Knives of any length, except rounded-blade butter and plastic cutlery.” TSA is revising this section to read: “Knives of any length, except plastic cutlery and butter knives (the butter knife exception is limited to knives that are round-bladed, blunt-edged, without serration, and no longer than a common table knife.”

2. Currently, section I.B(7) reads: “Razor-type blades, such as box cutters, utility knives, and razor blades not in a cartridge, but excluding safety razors. TSA is revising this section to read: “Razor-type blades, such as blades for box cutters, utility knives, and non-disposable safety razors. This prohibition includes box cutter and utility knife housings, with or without the razor blade, but excludes disposable safety razors and disposable safety razor blade cartridges.”

3. TSA is revising section I.C(4) to add cat-eyes, to read: “Brass knuckles, including cat-eyes.”

4. TSA added specific citations to regulatory cross-references in Section III.A and III.B.

5. TSA is adding section III.E. to read: “Compressed gas cylinders for air guns. Subject to the following limitations, a passenger may place air-powered rifles and pistols, components, ammunition, and accessories in checked baggage: (1) only four gas cylinders specifically intended for such rifles and pistols are permitted per person, (2) all of the gas cylinders must be unpressurized, and (3) none of the gas cylinders may exceed 24 inches in length, 3 inches in diameter, or 0.1 cubic feet in total rated volume.”

6. TSA made technical corrections to update statutory references, address typographical errors, and correct or clarify internal cross-references.

The following is the list of prohibited items and permitted items reprinted in its entirety, with the changes inserted.

Prohibited Items and Permitted Items Interpretation

I. Prohibited Items

For purposes of 49 U.S.C. 40101 et seq., 49 U.S.C. 44901 et seq., and 49 CFR 1540.111, TSA interprets the terms “weapons, explosives, and incendiaries” to include the items listed below. Accordingly, passengers may not carry these items as accessible property or on their person through passenger screening checkpoints or into airport sterile areas and the cabins of a passenger aircraft.

A. Guns and firearms, such as:

(1) BB guns.

(2) Compressed air guns.

(3) Firearms.

(4) Flare pistols.

(5) Gun lighters.

(6) Parts of guns and firearms.

(7) Pellet guns.

(8) Realistic replicas of firearms.

(9) Spear guns.

(10) Starter pistols.

(11) Stun guns/cattle prods/shocking devices.

B. Sharp Objects, such as:

(1) Axes and hatchets.

(2) Bows and arrows.

(3) Reserved.

(4) Ice axes/Ice picks.

(5) Knives of any length, except plastic cutlery and butter knives (the butter knife exception is limited to knives that are round-bladed, blunt-edged, without serration, and no longer than a common table knife).

(6) Meat cleavers.

(7) Razor-type blades, such as box cutters, utility knives, and non-disposable razors. This prohibition includes box cutter and utility knife housings, with or without the blade, but excludes disposable safety razors and disposable safety razor blade cartridges.

(8) Sabers.

(9) Reserved.

(10) Scissors, metal with pointed tips and a blade length greater than 4 inches as measured from the fulcrum.

(11) Reserved.

(12) Swords.

(13) Throwing stars (martial arts).

C. Club-Like Items, such as:

(1) Baseball bats.

(2) Billy clubs.

(3) Blackjacks.

(4) Brass knuckles, including cat-eyes.

(5) Cricket bats.

(6) Reserved.

(7) Golf clubs.

(8) Reserved.

(9) Hockey sticks.

(10) Lacrosse sticks.

(11) Martial arts weapons, including nunchucks, and kubatons.

(12) Night sticks.

(13) Pool cues.

(14) Ski poles.

(15) Reserved.

D. All explosives, including

(1) Ammunition.

(2) Blasting caps.

(3) Dynamite.

(4) Fireworks.

(5) Flares in any form.

(6) Gunpowder.

(7) Hand grenades.

(8) Plastic explosives.

(9) Realistic replicas of explosives.

E. Incendiaries, such as:

(1) Aerosols, any, except for personal care or toiletries in limited quantities.

(2) Fuels, including cooking fuels and any flammable liquid fuel.

(3) Gasoline.

(4) Gas torches, including micro-torches and torch lighters.

(5) Lighter fluid.

(6) Strike-anywhere matches.

(7) Turpentine and paint thinner.

(8) Realistic replicas of incendiaries.

(9) All lighters.

F. Disabling chemicals and other dangerous items, such as:

(1) Chlorine for pools and spas.

(2) Compressed gas cylinders (including fire extinguishers).

(3) Liquid bleach.

(4) Mace.

(5) Pepper spray.

(6) Spillable batteries, except those in wheelchairs.

(7) Spray paint.

(8) Tear gas.

G. Tools, such as:

(1) Crowbars.

(2) Drills and drill bits, including cordless portable power drills.

(3) Hammers.

(4) Saws and saw blades, including cordless portable power saws.

(5) Other tools greater than 7 inches in length, including pliers, screwdrivers, and wrenches.

II. Permitted Items

For purposes of 49 U.S.C. 40101 et seq. and 49 CFR 1540.111, TSA does not consider the items on the following lists as weapons, explosives, and incendiaries because of medical necessity or because they appear to pose little risk if, as is required, they have passed through screening. Therefore, passengers may carry these items as accessible property or on their person through passenger screening checkpoints and into airport sterile areas and the cabins of passenger aircraft.

A. The following medical and personal items:

(1) Braille note taker, slate and stylus, and augmentation devices.

(2) Cigar cutters.

(3) Corkscrews.

(4) Cuticle cutters.

(5) Diabetes-related supplies/equipment (once inspected to ensure prohibited items are not concealed), including: insulin and insulin loaded dispensing products; vials or box of individual vials; jet injectors; pens; infusers; and preloaded syringes; and an unlimited number of unused syringes, when accompanied by insulin; lancets; blood glucose meters; blood glucose meter test strips; insulin pumps; and insulin pump supplies. Insulin in any form or dispenser must be properly marked with a professionally printed label identifying the medication or manufacturer's name or pharmaceutical label.

(6) Eyeglass repair tools, including screwdrivers.

(7) Eyelash curlers.

(8) Knives, round-bladed butter or plastic.

(9) Reserved.

(10) Matches (maximum of four books, strike on cover, book type).

(11) Nail clippers.

(12) Nail files.

(13) Nitroglycerine pills or spray for medical use, if properly marked with a professionally printed label identifying the medication or manufacturer's name or pharmaceutical label.

(14) Personal care or toiletries with aerosols, in limited quantities.

(15) Prosthetic device tools and appliances (including drill, Allen wrenches, pullsleeves) used to put on or remove prosthetic devices, if carried by the individual with the prosthetic device or his or her companion.

(16) Safety razors (including disposable razors).

(17) Scissors, plastic or metal with blunt tips, and metal with pointed tips and a blade 4 inches or less in length as measured from the fulcrum.

(18) Tweezers.

(19) Umbrellas (once inspected to ensure prohibited items are not concealed).

(20) Walking canes (once inspected to ensure prohibited items are not concealed).

B. Toys, hobby items, and other items posing little risk, such as:

(1) Knitting and crochet needles.

(2) Toy Transformer® robots and the like.

(3) Toy weapons (if not realistic replicas).

C. The following types of tools:

(1) Pliers, screwdrivers, wrenches, and other tools 7 inches or less in length, excluding crowbars, drills, hammers, and saws.

III. Items Prohibited in Sterile and Cabin Areas, but Permitted in Checked Baggage

Passengers may place prohibited items other than explosives, incendiaries, disabling chemicals, and other dangerous items (other than individual self-defense sprays as noted below), and loaded firearms in their checked baggage, subject to any limitations provided in the Department of Transportation's hazardous materials regulations provided in 49 CFR part 175.

A. Pepper spray or mace. A passenger may place one container of self-defense spray in checked baggage, not exceeding 4 fluid ounces by volume, but only if it incorporates a positive means to prevent accidental discharge. See 49 CFR 175.10(a)(9) and 49 CFR 171.8 for other applicable requirements.

B. Small arms ammunition. A passenger may place small arms ammunition for personal use in checked baggage, but only if securely packed in fiber, wood or metal boxes, or other packaging specifically designed to carry small amounts of ammunition. See 49 CFR 175.10(a)(8) for other applicable requirements.

C. Unloaded firearms. A passenger may place an unloaded firearm or starter pistol in checked baggage if the passenger makes the following declarations to the airline operator, either orally or in writing, before checking the baggage: (1) the passenger has a firearm in his or her bag and that it is unloaded; (2) the firearm is carried in a hard-sided container; and (3) the container is locked, and only the passenger has the key or combination. See 49 CFR 1540.111(c) for other applicable requirements.

D. Club-like items. A passenger may transport club-like objects and sharp objects in checked baggage, as long as they do not contain explosives or incendiaries.

E. Compressed gas cylinders for air guns. Subject to the following limitations, a passenger may place air-powered rifles and pistols, components, ammunition, and accessories in checked baggage: (1) only four gas cylinders specifically intended for such rifles and pistols are permitted per person, (2) all of the gas cylinders must be unpressurized, and (3) none of the gas cylinders may exceed 24 inches in length, 3 inches in diameter, or 0.1 cubic feet in total rated volume.

IV. Lists Are Not Exclusive

Neither the prohibited items list nor the permitted items list contains all possible items. A screener has discretion to prohibit an individual from carrying an item into a sterile area or onboard an aircraft if the screener determines that the item is a weapon, explosive, or incendiary, regardless of whether the item is on the prohibited items list or the permitted items list. For example, if a cigar cutter or other article on the permitted list appears unusually dangerous, the screener may refuse to allow it in sterile areas. Similarly, screeners may allow individuals to bring items into the sterile area that are not on the permitted items list. In addition, items may be prohibited from the cabin of an aircraft, or allowed in only limited quantities, by Department of Transportation regulations governing hazardous materials. Individuals with questions about the carriage of hazardous materials on passenger aircraft may call the Hazardous Materials Information Center at 1-800-467-4922 for more information.

Dated: October 20, 2023.
David P. Pekoske,
Administrator.

[FR Doc. 2023-23653 Filed 10-25-23; 8:45 am]

BILLING CODE 9110-05-P